DEPARTMENT OF THE INTERIOR

National Park Service

[NPS-WASO-NAGPRA-NPS0025389; PPWOCRADN0-PCU00RP14.R50000]

Notice of Inventory Completion: Nebraska State Historical Society, Lincoln, NE; Correction

AGENCY: National Park Service, Interior.

ACTION: Notice; correction.

SUMMARY: The Nebraska State Historical Society (NSHS) has corrected an inventory of human remains and associated funerary objects published in a Notice of Inventory Completion in the Federal Register on May 3, 2017. This notice corrects the cultural affiliation determined in that notice. Lineal descendants or representatives of any Indian Tribe or Native Hawaiian organization not identified in this notice that wish to request transfer of control of these human remains and associated funerary objects should submit a written request to the NSHS. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the NSHS at the address in this notice by May 31, 2018.

ADDRESSES: Rob Bozell, Nebraska State Historical Society, P.O. Box 82554, Lincoln, NE 68501, telephone (402) 525-1624, email rob.bozell@nebraska.gov.

SUPPLEMENTARY INFORMATION: Notice is here given in accordance with the Native American Graves Protection and Repatriation Act (NAGPRA), 25 U.S.C. 3003, of the correction of an inventory of human remains and associated funerary objects under the control of the Nebraska State Historical Society, Lincoln, NE. The human remains and associated funerary objects were removed from Custer and Franklin Counties, NE.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the cultural affiliation determination published in a Notice of Inventory Completion in the Federal Register (82 FR 20618-20619, May 3, 2017). Additional information and consultation resulted in a change to the previous determination that there is no cultural affiliation between the human remains and associated funerary objects and any present-day Indian tribes or Native Hawaiian organizations.

Correction

In the Federal Register (82 FR 20618, May 3, 2017), column 1, paragraph 2, sentence 1, under the heading “Summary,” is corrected by replacing the words “no cultural affiliation” with the words “a cultural affiliation.”

In the Federal Register (82 FR 20618, May 3, 2017), column 2, paragraph 4, under the heading “Consultation,” is corrected by substituting the following two paragraphs:

A detailed assessment of the human remains was made by the NSHS professional staff in consultation with representatives of the Arapaho Tribe of the Wind River Reservation, Wyoming; Iowa Tribe of Kansas and Nebraska; Kiowa Indian Tribe of Oklahoma; Northern Cheyenne Tribe of the Northern Cheyenne Indian Reservation, Montana; Omaha Tribe of Nebraska; Pawnee Nation of Oklahoma; Ponca Tribe of Nebraska; Santee Sioux Nation, Nebraska; Sisseton-Wahpeton Oyate of the Lake Traverse Reservation, South Dakota; and Winnebago Tribe of Nebraska.

The following tribes were invited to consult but did not participate: Apache Tribe of Oklahoma; Assiniboine and Sioux Tribes of the Fort Peck Indian Reservation, Montana; Cheyenne and Arapaho Tribes, Oklahoma (previously listed as the Cheyenne-Arapaho Tribes of Oklahoma); Cheyenne River Sioux Tribe of the Cheyenne River Reservation, South Dakota; Comanche Nation, Oklahoma; Crow Creek Sioux Tribe of the Crow Creek Reservation, South Dakota; Crow Tribe of Montana; Delaware Nation, Oklahoma; Delaware Tribe of Indians; Iowa Tribe of Oklahoma; Kaw Nation, Oklahoma; Kickapoo Tribe of Indians of the Kickapoo Reservation in Kansas; Kickapoo Tribe of Oklahoma; Lower Brule Sioux Tribe of the Lower Brule Reservation, South Dakota; Oglala Sioux Tribe (previously listed as the Oglala Sioux Tribe of the Pine Ridge Reservation, South Dakota); Otoe-Missouria Tribe of Indians, Oklahoma; Ponca Tribe of Indians of Oklahoma; Prairie Band Potawatomi Nation (previously listed as the Prairie Band of Potawatomi Nation, Kansas); Rosebud Sioux Tribe of the Rosebud Indian Reservation, South Dakota; Sac & Fox Nation of Missouri in Kansas and Nebraska; Sac & Fox Nation, Oklahoma; Sac & Fox Tribe of the Mississippi in Iowa; Spirit Lake Tribe, North Dakota; Standing Rock Sioux Tribe of North & South Dakota; Three Affiliated Tribes of the Fort Berthold Reservation, North Dakota; Wichita and Affiliated Tribes (Wichita, Keechi, Waco & Tawakonie), Oklahoma; and Yankton Sioux Tribe of South Dakota.

In the Federal Register (82 FR 20618, May 3, 2017), column 3, under the heading “History and Description of the Remains,” is corrected by inserting the following paragraph after paragraph 2:

The human remains listed in this notice were determined to be Native American based on archeological context, burial patterns, osteology, or associated diagnostic artifacts. Based on oral tradition and archeological evidence, the Nebraska State Historical Society has determined there is a relationship of shared group identity that can be reasonably traced between the human remains and associated funerary objects listed in this notice and the Native American people that are represented today by 37 Indian tribes.

In the Federal Register (82 FR 20618, May 3, 2017), column 3, paragraph 7, under the heading “Determinations Made by the Nebraska State Historical Society,” is corrected by substituting the following paragraph:

• Pursuant to 25 U.S.C. 3001(2), there is a relationship of shared group identity that can be reasonably traced between the Native American human remains and associated funerary objects and the Apache Tribe of Oklahoma; Arapaho Tribe of the Wind River Reservation, Wyoming; Assiniboine and Sioux Tribes of the Fort Peck Indian Reservation, Montana; Cheyenne and Arapaho Tribes of Oklahoma; Cheyenne River Sioux Tribe of the Cheyenne River Reservation, South Dakota; Comanche Nation, Oklahoma; Crow Creek Sioux Tribe of the Crow Creek Reservation, South Dakota; Crow Tribe of Montana; Delaware Tribe of Indians; Delaware Nation, Oklahoma; Iowa Tribe of Kansas and Nebraska; Iowa Tribe of Oklahoma; Kaw Nation, Oklahoma; Kickapoo Tribe in Kansas; Kickapoo Tribe of Oklahoma; Kiowa Indian Tribe of Oklahoma; Lower Brule Sioux Tribe of the Lower Brule Reservation, South Dakota; Northern Cheyenne Tribe of the Northern Cheyenne Indian Reservation, Montana; Oglala Sioux Tribe; Omaha Tribe of Nebraska; Otoe-Missouri Tribe of Indians, Oklahoma; Pawnee Nation of Oklahoma; Ponca Tribe of Nebraska; Ponca Tribe of Indians of Oklahoma; Prairie Band of Potawattamie of Kansas; Rosebud Sioux Tribe of the Rosebud Indian Reservation, South Dakota; Sac and Fox Nation of Missouri in Kansas and Nebraska; Sac and Fox Nation, Oklahoma; Sac and Fox Tribe of the Mississippi in Iowa; Santee Sioux Nation, Nebraska; Sisseton-Wahpeton Sioux Oyate of the Lake Traverse Reservation, South Dakota; Spirit Lake Sioux Tribe of North Dakota; Standing Rock Sioux Tribe of North and South Dakota; Three Affiliated Tribes of the Fort Berthold Reservation of North Dakota; Wichita and Affiliated Tribes; Winnebago Tribe of Nebraska; and the Yankton Sioux Tribe of South Dakota (hereafter referred to as “The Culturally Affiliated Tribes”).

In the Federal Register (82 FR 20619, May 3, 2017), column 1, under the heading “Determinations Made by the Nebraska State Historical Society,” is corrected by deleting paragraphs 1 and 2.

Additional Requestors and Disposition

Lineal descendants or representatives of any Indian tribe or Native Hawaiian organization not identified in this notice that wish to request transfer of control of these human remains and associated funerary should submit a written request with information in support of the request to Rob Bozell, Nebraska State Historical Society, P.O. Box 82554, Lincoln, NE 68501, telephone (402) 525-1624, email rob.bozell@nebraska.gov, by May 31, 2018. After that date, if no additional requestors have come forward, transfer of control of the human remains and associated funerary objects to The Culturally Affiliated Tribes may proceed.

The NSHS is responsible for notifying The Culturally Affiliated Tribes that this notice has been published.

Dated: April 9, 2018.
Melanie O'Brien,
Manager, National NAGPRA Program.

[FR Doc. 2018-09176 Filed 4-30-18; 8:45 am]

BILLING CODE 4312-52-P